DEPARTMENT OF TRANSPORTATION

Federal Aviation Administration

14 CFR Part 71

[Docket No. FAA-2009-0960; Airspace Docket No. 09-ASO-29]

Revocation of Class E Airspace; Hinesville, GA

AGENCY: Federal Aviation Administration (FAA), DOT.

ACTION: Final rule; correction.

SUMMARY: This action corrects an error in the effective date of a final rule that was published in the Federal Register on November 25, 2009, Airspace Docket No. 09-ASO-29.

DATES: Effective Date: 0900 UTC, February 11, 2010.

FOR FURTHER INFORMATION CONTACT: Melinda Giddens, Operations Support Group, Eastern Service Center, Federal Aviation Administration, P.O. Box 20636, Atlanta, Georgia 30320; telephone (404) 305-5610.

SUPPLEMENTARY INFORMATION:

History

Federal Register Docket No. FAA-2009-0960, Airspace Docket No. 09-ASO-29, published on November 25, 2009 (74 FR 61507), revokes Class E airspace at Liberty County Airport, Hinesville, GA. A typographical error was made in the effective date. It should read February 11, 2010, not February 22, 2010. This action corrects that error.

Correction to Final Rule

Accordingly, pursuant to the authority delegated to me, on page 61508, column 1, line 1, the DATES section is corrected to read: Effective Date: 0900 UTC, February 11, 2010.

Issued in College Park, Georgia, on January 26, 2010.
Myron A. Jenkins,
Acting Manager, Operations Support Group, Eastern Service Center, Air Traffic Organization.

[FR Doc. 2010-2520 Filed 2-5-10; 8:45 am]

BILLING CODE 4910-13-P